DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending December 29, 2012. The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0219.

Date Filed: December 27, 2012.

Due Date for Answers, Conforming Applications, or Motion to Modify Scope: January 17, 2012.

Description: Application of 8199400 Canada Inc., DBA Arctic Sunwest Charters requesting a foreign air carrier permit and exemption authority to engage in on-demand charter transportation of passengers, property and mail between point(s) in Canada and point(s) in the United States, as well as other charters subject to pertinent national, bilateral and international laws and regulations.

Docket Number: DOT-OST-2012-0219.

Date Filed: December 28, 2012.

Due Date for Answers, Conforming Applications, or Motion to Modify Scope: January 22, 2012.

Description: Application of USA Jet Airlines, Inc. (“USAJ”) requesting the Department of Transportation disclaim jurisdiction over the corporate reorganization of USAJ in which USAJ will be converted, for tax proposes/planning, from a Delaware corporation to a Delaware limited liability company bearing the name USA Jet Airlines, LLC on December 31, 2012 (the “Date of Reorganization”).

Barbara J. Hairston,
Acting Program Manager, Docket Operations, Federal Register Liaison.

[FR Doc. 2013-00694 Filed 1-14-13; 8:45 am]

BILLING CODE 4910-9X-P